CONSUMER PRODUCT SAFETY COMMISSION

Proposed Collection; Comment Request-Testing and Recordkeeping Requirements Under the Standard for the Flammability of Mattresses and Mattress Pads

Correction

In notice document 01-10695 beginning on page 21375, in the issue of Monday, April 30, 2001, make the following correction:

On page 21375, in the third column, under the DATES heading, in the third line, “June 29, 2000” should read “June 29, 2001”.

[FR Doc. C1-10695 Filed 5-8-01; 8:45 am]

BILLING CODE 1505-01-D

DEPARTMENT OF VETERANS AFFAIRS

38 CFR Part 3

RIN 2900-AJ99

Review of Benefit Claims Decisions

Correction

In rule document 01-11028 beginning on page 21871, in the issue of Wednesday, May 2, 2001, make the following correction:

§ 3.104 [Corrected]

On page 21874, in the second column, §3.104, in amendatory instruction 2., remove the third line which reads “ “§3.105” and adding in its place,”.

[FR Doc. C1-11028 Filed 5-8-01; 8:45 am]

BILLING CODE 1505-01-D